NUCLEAR REGULATORY COMMISSION

Advisory Committee on Reactor Safeguards (ACRS); Meeting of the ACRS Subcommittees on Reliability and PRA and Fukushima; Revision to Notice of Meetings

The (ACRS) Subcommittee on Fukushima originally scheduled for the afternoon of August 14, 2012, has been moved to the morning of August 15, 2012, 8:30 a.m. until 12 p.m.

The ACRS Subcommittee on Reliability and PRA which was to be held on August 15, 2012, Room T-2B1, 11545 Rockville Pike, Rockville, Maryland has been cancelled.

These notices were previously published in the Federal Register on Wednesday, August 1, 2012 (77 FR 45698-45699).

Further information regarding these meetings can be obtained by contacting the Designated Federal Official (DFO), Derek Widmayer (Telephone 301-415-7366 or Email: Derek.Widmayer@nrc.gov) between 8:15 a.m. and 5 p.m.

Dated: August 1, 2012.
Cayetano Santos,
Chief, Technical Support Branch, Advisory Committee on Reactor Safeguards.

[FR Doc. 2012-19548 Filed 8-8-12; 8:45 am]

BILLING CODE 7590-01-P